DEPARTMENT OF HEALTH AND HUMAN SERVICES

Administration for Community Living

Agency Information Collection Activities; Submission for OMB Review; Public Comment Request; of the One Protection and Advocacy Annual Program Performance Report OMB #0985-0063

AGENCY: Administration for Community Living, Department of Health and Human Services.

ACTION: Notice.

SUMMARY: The Administration for Community Living is announcing that the proposed collection of information listed above has been submitted to the Office of Management and Budget (OMB) for review and clearance under the Paperwork Reduction Act of 1995. This 30-Day notice collects comments on the information collection requirements related to the information collection requirements of the One Protection and Advocacy Annual Program Performance Report.

DATES: Submit written comments on the collection of information by June 2, 2022.

ADDRESSES: Submit written comments and recommendations for the proposed information collection within 30 days of publication of this notice to www.reginfo.gov/public/do/PRAMain Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Ophelia McLain, (202) 795-7401 or Email ophelia.mclain@acl.hhs.gov.

SUPPLEMENTARY INFORMATION: This is a revision to a currently approved information collection (IC) the Protection and Advocacy One Program Performance Report (PPR). The One PRR is comprised of four required annual reports as follows: (1) Developmental Disabilities Protection and Advocacy Systems Program Performance Report, (2) Protection and Advocacy for Assistive Technology (PAAT) Program Performance Report; (3) Protection and Advocacy Voting Access Annual Report (Help America Vote Act) (HAVA); and (4) Protection and Advocacy for Traumatic Brain Injury (PATBI) Program Performance Report.

Each P&A submits using the One-PPR one report for each of the four funding sources administered by ACL. As with each funding source, there is a reporting requirement. The revision under this clearance includes information collection based on funding from the Centers for Disease Control and Prevention to increase access to COVID-19 vaccines (ACCESS) and funding under Section 2501 of the American Rescue Plan Act of 2021 (Pub. L. 117-2) to expand the Public Health Workforce (PHWF) provided under). In an effort to reduce the burden on the P&As, each will continue to submit one report for all funding sources; however, as of FY2022, the report will incorporate the activities undertaken for the ACCESS and PHWF funding by creating a new goal or priority in Part 2C and adding the narrative in Part 2.C.4 (Rationale for Adding/Changing Goal) or 2.C.5 (Rationale for Adding/Changing Priority). The guidance document provides a description of the data elements to be included in this section of the One-PPR template.

State Protection and Advocacy (P&A) Systems in each State and Territory provide individual legal advocacy, systemic advocacy, monitoring, and investigations to protect and advance the rights of people with developmental disabilities, using funding administered by the Administration on Disabilities (AoD), Administration for Community Living, HHS. To meet statutory reporting requirements, P&As use these forms for submitting annual reports.

The PPRs are reviewed by federal staff for compliance and outcomes. Information in the reports is analyzed to create a national profile of programmatic compliance, outcomes, and goals and priorities for P&A Systems for tracking accomplishments against goals and to formulate areas of technical assistance related to compliance with Federal requirements. Information collected informs AoD of trends in P&A advocacy, facilitate collaboration with other federally funded entities, and identify best practices for the efficient use of federal funds.

Additionally, the information is used to provide a national perspective on where the program is going (prospective view), and to provide a gage for program accomplishments against program objectives for purposes of identifying continuing challenges and formulating technical assistance and management support provided to P&A systems.

Comments in Response to the 60-Day Federal Register Notice

The 60-day notice Federal Register, Vol. 87, No. 26 7182 FRN was published on February 8, 2022. ACL received 32 comments from 7 entities in response to the 60-day notice. Comments included concerns relating to demographic information, burden of effort, estimate of the developmental disabilities' population, and clarification needed in the guidance document. ACL's responses to these comments are included below.

Organization | Section | Comment | Response
Disability Rights Maine | 1C | Noted demographic information collected could be improved to better reflect diversity and cultural competency. The current choices are male and female. Recommended including a broad range of gender identify options. In addition, there is limited information on racial and ethnic diversity of individuals served. Recommended including whether a person is part of an immigrant community | ACL intends to update this element to reflect appropriate options.
Disability Rights Maine | Part 3 | Recommended including additional demographic information about the board, staff, and advisory council, similar to recommendations for 1C | Upon review of the current PPRs, no changes will be made at this time.
Disability Rights Maine | None | Burden of hours of 140 to compile the One-PPR is correct; however, this estimate does not include the amount of time spent by staff to collect and input required information in its case management system | As a result of the required information, no changes will be made at this time.
Disability Rights Michigan | None | The amount of time spent for this report is cumbersome, unnecessarily duplicative, and feels unconnected to the overall “why”. The team of four spent 203 hours over 3 months to complete the report. The time and resources required to complete this report would be better spent serving clients. Additionally, the data reporting requirements also interact with this P&A's timekeeping and accounting systems, creating additional reporting complexity for grant projects. Recommended requesting information similarly to the PAIR report | As a result of the required information, no changes will be made at this time.
Disability Rights Michigan | 1A | This comment relates to 1A-I, 1J-P, 2A, 3A, 3B, 3C-J. The number of people served, cases closed, cases opened, people impacted, and other categories are reported in six sections of the report. The data reporting is duplicative and confusing | Upon review of the current PPRs, no changes will be made at this time.
Disability Rights Michigan | 1C | Gender reporting is currently limited to male and female. Recommended expanding the choice to create a truer description of the gender identities of the people served | ACL intends to update this element to reflect appropriate options.
Disability Rights New York | 1C | This section requires reporting on the gender of individuals serviced. The current choices are male and female. P&As across the nation proudly support LGBTQ people with disabilities. Recommended permitting a broader array of responses, which would result in a negligible increase in the reporting burden on the P&As. However, it would make a marked difference in the ability of P&As to collect and report accurate and affirming gender demographic information | ACL intends to update this element to reflect appropriate options.
Disability Rights Pennsylvania |  | Commend ACL and NDRN for the important work and vital support and guidance provided. Would like One-PPR streamlined so as not to divert time to reporting that could be spent on substantive work and to provide information that is more understandable, straightforward, and useful to the government and the public | Upon review of the current PPRs, no changes will be made at this time.
Disability Rights Pennsylvania | 1L | Most group cases are not focused on specific living arrangements or ages, creating confusion as to whether multiple living arrangements or ages should be chosen | Upon review of the current PPRs, no changes will be made at this time.
Disability Rights Pennsylvania | 1O | Most group cases are not focused on specific living arrangements or ages, creating confusion as to whether multiple living arrangements or ages should be chosen | Upon review of the current PPRs, no changes will be made at this time.
Disability Rights Pennsylvania | 1P | Seeks information about “race/ethnicity of groups served” but noted that the information is included in IJ6 | The guide has been updated.
Disability Rights Pennsylvania | 2A | This reflects goals and priorities for the completed fiscal year; unfortunately, the result is not a reader-friendly report. The result narratives are effectively limited to activities that have quantifiable outcomes based on the performance measurements, which are not sufficiently comprehensive. Additionally, “end outcomes” and “performance measures” are viewed as the same | Upon review of the current PPRs, no changes will be made at this time.
Disability Rights Pennsylvania | Part 3 | The term “performance measurements” is confusing when it appears to mean “end outcomes”. Eleven end outcomes/performance measures are in some ways repetitive and in many ways not comprehensive | Upon review of the current PPRs, no changes will be made at this time.
Disability Rights Pennsylvania | 3A | Reporting on end outcomes for systemic litigation, educating policy makers, and other systemic activities is challenging because it does not really allow P&A to avoid duplication | Upon review of the current PPRs, no changes will be made at this time.
Disability Rights Pennsylvania | 3B | One-PPR asks for the number of people whose rights were advanced through class or system-impact litigation and for people whose rights were enforced, protected, or restored by non-litigation group activities. There is a potential for duplication due to data requested in 3A | Upon review of the current PPRs, no changes will be made at this time.
Disability Rights Pennsylvania | 2D | Information in this section is the same from year-to-year so it is unclear why it needs to be repeated annually | Upon review of the current PPRs, no changes will be made at this time.
Disability Rights Pennsylvania | Part 5 | This section requires the P&A to identify collaboration partners, but it is unclear what constitutes a collaboration partner | Upon review of the current PPRs, no changes will be made at this time.
Disability Rights Pennsylvania | 6C | This section asks for information on the number of Board members who are primary or secondary PADD, PATBI, PAIMI, PAIR, or PABSS consumers and who are AT users. Some board members may fall into more than one category but the P&A can only choose to put them in one category. This information is not an accurate reflection of consumer involvement in the Board | Upon review of the current PPRs, no changes will be made at this time.
Disability Rights Pennsylvania |  | On page 20 of Guide, the number of clients for PADD can never exceed 1.58% of a state's population, yet the DD population almost certainly exceed 1.58%. Recommended updating this figure or allowing each P&A to calculate based on their jurisdiction | While the 1.58% has not been changed, a clarifying sentence was added to the guide.
Disability Rights Pennsylvania | None | Recommended reconsidering the definition of “individual advocacy” | Upon review of the current PPRs, no changes will be made at this time.
Disability Rights Wisconsin | 1B | Recommended removing problems and subproblems used infrequently | Upon review of the current PPRs, no changes will be made at this time.
Disability Rights Wisconsin | 1E | Noted #1 and #2 are not mutually exclusive. Concerned about the way in which fully and partially met goals are categorized. Recommended combining #8 and #9 | Upon review of the current PPRs, no changes will be made at this time.
Disability Rights Wisconsin | 1P | Recommended revising instructions relating to how group projects should be counted, to provide clarity | Upon review of the current PPRs, no changes will be made at this time.
Disability Rights Wisconsin | Part 2 | Noted it is time-consuming to provide narrative for each example. Recommended allowing for more broad discussion on goals and priorities and eliminate quantitative measures | As a result of the required information, no changes will be made at this time.
Disability Rights Wisconsin | Part 3 | Noted small differences in performance measures. Recommended changing performance measures in Part 3D; 3F; 3G; and 3H. Additional instructions are needed in Guide | Upon review of the current PPRs, no changes will be made at this time.
Disability Rights Wisconsin | Part 3.C | Considered #3 duplicative of Part 1E | Upon review of the current PPRs, no changes will be made at this time.
Disability Rights Wisconsin | None | Noted that report is extremely time consuming since data and narratives are requested in different ways. One-PPR attempts to quantify result of P&A work, but it does not do enough to ensure that numbers reported have an understandable meaning. Additionally, there is little guidance on what numbers should be used for various types of activities. However, even if this guidance was thorough, there is too much to report on | As a result of the required information, no changes will be made at this time.
Family & Friends of Care Facility Residents | None | Reporting of use of public funds to the administering agency by federal grantees is necessary. Accurate, non-partisan reporting by the protection and advocacy systems must be foundational for ACL. As the administering agency, ACL must assure accountability for the proper use of federal funds from the programs for which it is responsible. ACL's responsibilities include oversight of the activities of four programs created under the Developmental Disabilities Assistance and Bill of Rights Act of 2000 (DD Act): (1) Protection and Advocacy System for Persons with Developmental Disabilities (PADD), (2) State Councils on Developmental Disabilities (CDD), (3) University Centers for Excellence in Developmental Disabilities (UCEDD) and (4) Projects of National Significance (PNS) | No changes were recommended.
Family & Friends of Care Facility Residents |  | DD Act programs operate in every state. Accurate reporting to ACL by the four DD Act programs, including protection and advocacy systems for persons with developmental disabilities (PADD) is fundamental in meeting accountability requirements for programs receiving federal funds. It is necessary that the administering agency (ACL) understand PADDs' goals, activities and outcomes for the nation's diverse populations with developmental disabilities, the situations of their families and the range of services offered by states. The impact of PADD's activities on families of persons with disabilities and the states' human service systems have not been accurately reported. The report forms used by PADD do not transmit the information of vulnerable people living with lifelong disabilities and of federal grant programs which use litigation as a tool to eliminate long-term care facilities for citizens unable to care for themselves (PADD's “systems change” goals). Further, it is not a requirement of PADD to submit data in their reports to ACL on mortality and sentinel events (911 calls or ER visits) of citizens with cognitive and developmental disabilities. See for example the deaths of vulnerable residents in GA and VA following their forced transitions from long-term care facilities | Upon review of the current PPRs, no changes will be made at this time.
Family & Friends of Care Facility Residents | None | Persons who are impacted by ACL policies and DD Act program activities, including P&As have been excluded from policymaking by the agency. ACL last held public hearings (“Listening Sessions”) in 2010. The nearest ACL Listening Session to Arkansas families was in Dallas, Texas and three of our family members attended. Our experience was that families of persons with high-needs-care and who receive services in a long-term care facility were excluded from Day Two of the listening session. Despite our request (submitted in writing to ACL) to come to DC to participate in the agency's strategic planning sessions, we were not notified or invited. Later, we found the published reports of the listening sessions to be inaccurate and highly partisan | No changes were recommended.
Family & Friends of Care Facility Residents | None | Simple forms with boxes to check are insufficient to accurately and fully report the diverse and complex realities of the population with developmental disabilities to ACL. Health and safety of persons unable to care for themselves who are nonverbal and for whom there is no cure, their aging primary caregivers, the lack of specialized, licensed long-term care facilities for persons with cognitive and developmental disabilities, and the use of jails and hospitals as emergency placements for high-needs persons are but some of the information which ACL should be receiving | Upon review of the current PPRs, no changes will be made at this time.
National Disability Rights Network | 1C | The choices for the gender demographic question, nor the two answers appropriately reflect the time in which we live. It is not uncommon for P&A staff to feel constrained by the traditional definitions of female and male. Recommended broadening the choices to: Male, Female, Not Listed, Choose Not to Answer | ACL intends to update this element to reflect appropriate gender identity options.

Estimated Program Burden: The following table summarizes the burden hour estimate for this information collection:

Number of states | Number of responses per state | Average burden hours per state | Total hours
57 | 1 | 128 | 7,296

The estimates of annual burden to the States vary in accordance with the size, program complexity, and technological capacity of the States. The annual burden on this form is estimated to be 128 hours.

PPR | Annual hours estimate (based on previous OMB burden estimates
PADD | 90
PAAT | 16
PATBI | 16
HAVA | 20
ONE PPR | 128

Dated: April 26, 2022.
Alison Barkoff,
Acting Administrator and Assistant Secretary for Aging.

[FR Doc. 2022-09422 Filed 5-2-22; 8:45 am]

BILLING CODE 4154-01-P